Title 3—

The President

Proclamation 7716 of October 6, 2003

Child Health Day, 2003

By the President of the United States of America

Parents, teachers, and mentors play a critical role in helping children learn to make healthy choices in life. On Child Health Day, we emphasize our commitment to teaching our children the benefits of good health.

The safety and well-being of our children is a priority shared by all Americans. As children grow and develop, they face many risks and dangers. Through the HealthierUS Initiative and the President's Challenge, my Administration is working to help children learn the benefits of a healthy body and mind.

Across our country, parents and caregivers can play a vital part in creating a more healthy America by teaching children good nutrition and important safety procedures. We can all help young Americans improve their health by encouraging them to eat healthy foods and to get regular exercise. Good nutrition can improve students' ability to concentrate and help them succeed in the classroom. Families must encourage our young people to avoid harmful activities. Families can also protect their children by ensuring that they are immunized against preventable diseases and making sure that homes, day care centers, and schools have been checked for potential hazards. Parents can help prevent accidents and injuries by securing infants, toddlers, and small children in child safety seats and booster seats, checking consumer safety warnings, and making sure young people wear protective gear during recreational activities.

By teaching our children to make safe, healthy decisions, families and all Americans can help our young people reach their full potential, become responsible leaders in their communities, and make our Nation better.

The Congress, by a joint resolution approved May 18, 1928, as amended (36 U.S.C. 105), has called for the designation of the first Monday in October as “Child Health Day” and has requested the President to issue a proclamation in observance of this day.

NOW, THEREFORE, I, GEORGE W. BUSH, President of the United States of America, do hereby proclaim Monday, October 6, 2003, as Child Health Day. I call upon families, schools, child health professionals, communities, and governments to help all our children discover the rewards of good health and wellness.

IN WITNESS WHEREOF, I have hereunto set my hand this sixth day of October, in the year of our Lord two thousand three, and of the Independence of the United States of America the two hundred and twenty-eighth.

B

[FR Doc. 03-25879

Filed 10-8-03; 11:27 am]

Billing code 3195-01-P